DEPARTMENT OF ENERGY

Federal Energy Regulatory Commission

[Project No. 12514-000]

Northern Indiana Public Service Company; Notice of Application Tendered for Filing With the Commission, Soliciting Additional Study Requests, and Establishing Procedures for Relicensing and a Deadline for Submission of Final Amendments

August 5, 2004.

Take notice that the following hydroelectric application has been filed with the Commission and is available for public inspection.

a. Type of Application: Original major license.

b. Project No.: 12514-000.

c. Date Filed: June 28, 2004.

d. Applicant: Northern Indiana Public Service Company.

e. Name of Project: Norway and Oakdale Hydroelectric Project.

f. Location: On the Tippecanoe River in Carroll and White Counties, Indiana. The project does not affect Federal lands.

g. Filed Pursuant to: Federal Power Act, 16 U.S.C. 791 (a)-825(r).

h. Applicant Contact: Jerome B. Weeden, Vice President Generation; Northern Indiana Public Service Company; 801 East 86th Avenue; Merrillville, IN 46410; (219) 647-5730.

i. FERC Contact: Sergiu Serban at (202) 502-6211, or sergiu.serban@ferc.gov.

j. Cooperating Agencies: We are asking Federal, State, local, and tribal agencies with jurisdiction and/or special expertise with respect to environmental issues to cooperate with us in the preparation of the environmental document. Agencies who would like to request cooperating status should follow the instructions for filing comments described in item l below.

k. Pursuant to Section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for Filing Additional Study Requests and Requests for Cooperating Agency Status: 60 days from the date of this notice.

All documents (original and eight copies) should be filed with: Magalie R. Salas, Secretary, Federal Energy Regulatory Commission, 888 First Street, NE., Washington, DC 20426. The Commission's Rules of Practice require all interveners filing documents with the Commission to serve a copy of that document on each person on the official service list for the project. Further, if an intervener files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site (http://www.ferc.gov) under the “e-Filing” link. After logging into the e-Filing system, select “Comment on Filing” from the Filing Type Selection screen and continue with the filing process.”

m. Status: This application is not ready for environmental analysis at this time.

n. Description of Project: The existing Norway Oakdale Hydroelectric Project consists of the Norway development and the Oakdale development and has a combined installed capacity of 16.4 megawatts (MW). The project produces an average annual generation of 27,538 megawatt-hours (MWh). All power is dispatched directly into the local grid and is used within the East Central Area Reliability Coordination Agreement.

The Norway development includes the following constructed facilities: (1) a 915-foot-long dam consisting of a 410-foot-long, 34-foot-maximum-height earthfill embankment with a concrete corewall; a 225-foot-long, 29-foot-high concrete gravity overflow spillway with flashboards; a 120-foot-long, 30-foot-high concrete gated spillway with three 30-foot-wide, 22-foot-high spillway gates; a 18-foot-wide, 30-foot-high trash sluice housing with one 8-foot-wide, 11-foot-high gate; and a 142-foot-long, 64-foot-wide powerhouse integral with the dam containing four vertical Francis turbines-generating units with a rated head of 28 feet, total hydraulic capacity of 3,675 cubic feet per second (cfc) and a total electric output of 7.2 MW; (2) a 10-mile-long, 10-foot average depth, 1,291-acre reservoir; (3) a two-mile-long 69,000 volt transmission line; and (4) appurtenant facilities.

The Oakdale development includes the following constructed facilities: (1) a 1,688-foot-long dam consisting of a 126-foot-long, 58-foot-maximum-height east concrete buttress and slab dam connecting the left abutment to the powerhouse; a 114-foot-long, 70-foot-wide powerhouse integral with the dam containing three vertical Francis turbines-generating units with a rated head of 42 to 48 feet, total hydraulic capacity of 3,200 cubic feet per second (cfc) and a total electric output of 9.2 MW; an 18-foot-wide structure containing a nonfunctional fish ladder and a gated trash sluice; an 84-foot-long ogee-shaped concrete gated spillway with two 30-foot-wide, 22-foot-high vertical lift gates; a 90-foot-long, six bay concrete gravity siphon-type auxiliary spillway; and a 1,260-foot-long west earth embankment with a maximum height of 58 feet and a 30-foot-wide crest; (2) a 10-mile-long, 16-foot average depth, 1,547-acre reservoir; and (3) appurtenant facilities.

o. A copy of the application is available for review at the Commission in the Public Reference Room or may be viewed on the Commission's Web site at http://www.ferc.gov using the “eLibrary” link. Enter the docket number, excluding the last three digits in the docket number field (P-12514), to access the document. For assistance, contact FERC Online Support at FERCOnlineSupport@ferc.gov, or toll-free at 1-866-208-3676, or for TTY, (202) 502-8659. A copy is also available for inspection and reproduction at the address in item h above.

You may also register online at http:// www.ferc.gov/esubscribenow.htm to be notified via e-mail of new filings and issuances related to this or other pending projects. For assistance, contact FERC Online Support.

p. With this notice, we are initiating consultation with the Indiana State Historic Preservation Officer (SHPO), as required by § 106, National Historic Preservation Act, and the regulations of the Advisory Council on Historic Preservation, 36 CFR 800.4.

q. Procedural schedule and final amendments: The application will be processed according to the following Hydro Licensing Schedule. Revisions to the schedule will be made if the Commission determines it necessary to do so:

Milestone | Tentative date
Tendering Notice | August 2004.
Notice of Acceptance / Notice of Ready for Environmental Analysis | September 2004.
Filing of Recommendations, Preliminary Terms and Conditions, and Fishway Prescriptions | November 2004.
Commission issued Non-Draft EA | April 2005.
Comments on EA | June 2005.
Modified Terms and Conditions | August 2005.
Ready for Commission Decision on the Application | October 2005.

Final amendments to the application must be filed with the Commission no later than 30 days from the issuance date of the Notice of Ready for Environmental Analysis.

Magalie R. Salas,
Secretary.

[FR Doc. E4-1800 Filed 8-11-04; 8:45 am]

BILLING CODE 6717-01-P